DEPARTMENT OF HOMELAND SECURITY

[Docket No. DHS-2017-0059]

Statewide Communication Interoperability Plan Template and Progress Report

AGENCY: National Protection and Programs Directorate (NPPD), Department of Homeland Security (DHS).

ACTION: 60-Day notice and request for comments; revised collection, 1670-0017.

SUMMARY: The DHS NPPD Office of Cybersecurity and Communications (CS&C) will submit the following Information Collection Request to the Office of Management and Budget (OMB) for review and clearance in accordance with the Paperwork Reduction Act of 1995.

DATES: Comments are encouraged and will be accepted until January 30, 2018. This process is conducted in accordance with 5 CFR part 1320.

ADDRESSES: You may submit comments, identified by docket number DHS-2017-0059, by one of the following methods:

• Federal eRulemaking Portal: http://www.regulations.gov. Please follow the instructions for submitting comments.

• Email: SCIP@hq.dhs.gov. Please include docket number DHS-2017-0059 in the subject line of the message.

• Mail: Written comments and questions about this Information Collection Request should be forwarded to DHS/NPPD/CS&C/OEC, ATTN: 1670-0017, 245 Murray Lane SW., Arlington, VA 20598-0640.

Instructions: All submissions received must include the words “Department of Homeland Security” and docket number DHS-2017-0059. Comments received will be posted without alteration at http://www.regulations.gov, including any personal information provided.

Comments submitted in response to this notice may be made available to the public through relevant Web sites. For this reason, please do not include in your comments information of a confidential nature, such as sensitive personal information or proprietary information. If you send an email comment, your email address will be automatically captured and included as part of the comment that is placed in the public docket and made available on the Internet. Please note that responses to this public comment request containing any routine notice about the confidentiality of the communication will be treated as public comments that may be made available to the public notwithstanding the inclusion of the routine notice.

FOR FURTHER INFORMATION CONTACT: For specific questions related to collection activities, please contact Richard Tenney at 703-705-6281 or at SCIP@hq.dhs.gov.

SUPPLEMENTARY INFORMATION: The DHS NPPD CS&C Office of Emergency Communications (OEC), formed under Title XVIII of the Homeland Security Act of 2002, 6 U.S.C. 571 et seq., is required, pursuant to 6 U.S.C. 572, to develop the National Emergency Communications Plan (NECP), which includes identification of goals, timeframes, and appropriate measures to achieve interoperable communications capabilities. The Statewide Communication Interoperability Plan (SCIP) Template and Annual SCIP Snapshot Report are designed to meet and support these statutory requirements.

OEC will use the information from the SCIP Template and Annual SCIP Snapshot to track the progress States are making in implementing milestones and demonstrating goals of the NECP, as required through the Homeland Security Act of 2002, 6 U.S.C. 572. The SCIP Template and Annual SCIP Snapshot will provide OEC with broader capability data across the lanes of the Interoperability Continuum, which are key indicators of consistent success in response-level communications.

In addition, the SCIP Template and the SCIP Snapshot will assist States in their strategic planning for interoperable and emergency communications while demonstrating each State's achievements and challenges in accomplishing optimal interoperability for emergency responders. Moreover, certain government grants may require States to update their SCIP Templates and SCIP Snapshot to include broadband efforts in order to receive funding for interoperable and emergency communications.

Statewide Interoperability Coordinators (SWICs) will be responsible for collecting this information from their respective stakeholders and governance bodies, and will complete and submit the SCIP Snapshots directly to OEC through unclassified electronic submission.

The SCIP Template and Annual SCIP Snapshot may be submitted through unclassified electronic submission to OEC by each State's SWIC in addition to being able to submit their respective SCIP Template and Annual SCIP Snapshot via email to SCIP@hq.dhs.gov.

OEC streamlined its annual SCIP reporting process to obtain standard data to understand progress and challenges in emergency communications planning. OEC replaced the lengthier Annual Progress Report with the SCIP Snapshot as a reporting mechanism for States and territories for submitting SCIP progress, achievements and challenges. The data collected is based on calendar year reporting. The SCIP Snapshot also includes sections for States and territories to report on the status of governance structures, progress towards SCIP goals and initiatives, and overall successes and challenges in advancing interoperable emergency communications.

This is a revised information collection. OMB is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title: Agency Information Collection Activities: Statewide Communication Interoperability Plan (SCIP) Template and Progress Report.

OMB Number: 1670-0017.

Frequency: Annually.

Affected Public: Private and Public Sector.

Number of Respondents: 56.

Estimated Time per Respondent: 6 hours.

Total Burden Hours: 336 hours.

David Epperson,
Chief Information Officer.

[FR Doc. 2017-25846 Filed 11-30-17; 8:45 am]

BILLING CODE 9110-9P-P